DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission.

DATE AND TIME: December 19, 2013, 10:00 a.m.

PLACE: Room 2C, 888 First Street NE., Washington, DC 20426.

STATUS: Open.

MATTERS TO BE CONSIDERED: Agenda

* Note—Items listed on the agenda may be deleted without further notice.

CONTACT PERSON FOR MORE INFORMATION: Kimberly D. Bose, Secretary, Telephone (202) 502-8400. For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

1000th-Meeting, Regular Meeting, December 19, 2013, 10:00 a.m.
Item No. | Docket No. | Company
ADMINISTRATIVE
A-1 | AD02-1-000 | Agency Business Matters.
A-2 | AD02-7-000 | Customer Matters, Reliability, Security and Market Operations.
A-3 | AD14-4-000 | FERC Retrospective.
ELECTRIC
E-1 | ER13-1724-000, ER13-1860-000 | Nevada Power Company.
E-2 | ER13-83-001, ER13-83-002, ER13-88-001, ER13-88-002 | Duke Energy Carolinas LLC and Carolina Power and Light Company, Alcoa Power Generating, Inc.
E-3 | AD12-16-000 | Capacity Deliverability Across the Midwest Independent Transmission System Operator, Inc./PJM Interconnection, L.L.C. Seam.
| AD14-3-000 | Coordination of Energy and Capacity Across the Midcontinent Independent System Operator, Inc./PJM Interconnection, L.L.C Seam.
E-4 | RM13-7-000 | Protection System Maintenance Reliability Standard.
E-5 | OMITTED
E-6 | ER13-2468-000 | Midcontinent Independent System Operator, Inc.
E-7 | ER14-106-000, ER14-106-001 | Midcontinent Independent System Operator, Inc.
E-8 | ER14-146-000 | Nevada Power Company.
| ER14-147-000 | Sierra Pacific Power Company.
| ER14-149-000 | NV Energy, Inc.
E-9 | ER14-108-000 | Entergy Louisiana, LLC, Entergy Arkansas, Inc., Entergy Gulf States Louisiana, L.L.C., Entergy Mississippi, Inc., Entergy New Orleans, Inc., Entergy Texas, Inc.
E-10 | ER02-653-002 | PacifiCorp.
E-11 | OMITTED
E-12 | ER13-2452-000 | California Independent System Operator Corporation.
E-13 | ER14-291-000 | California Independent System Operator Corporation.
E-14 | ER14-68-000 | California Independent System Operator Corporation.
E-15 | ER14-84-000 | California Independent System Operator Corporation.
E-16 | ER11-3277-002, ER13-2273-000 | Sky River LLC.
E-17 | ER12-2706-002 | Midwest Independent Transmission System Operator, Inc.
E-18 | ER12-309-005 | Midwest Independent Transmission System Operator, Inc.
E-19 | ER12-2706-001 | Midwest Independent Transmission System Operator, Inc.
E-20 | ER14-90-000 | ISO New England Inc.
E-21 | OMITTED
E-22 | EL13-54-000, QF11-141-002 | Gadwall Wind LLC.
E-23 | EL14-1-000 | Pioneer Wind Park I, LLC.
E-24 | EL13-42-001 | Cargill Power Markets, LLC v. NV Energy, Inc.
E-25 | EL13-88-000 | Northern Indiana Public Service Company v. Midcontinent Independent System Operator, Inc. and PJM Interconnection, L.L.C.
E-26 | OMITTED
E-27 | EL13-59-001, QF11-178-003 | Kootenai Electric Cooperative, Inc.
E-28 | ER13-911-000 | Smoky Mountain Transmission LLC.
E-29 | ER13-76-000, ER13-1837-000 | Terra-Gen Dixie Valley, LLC.
E-30 | ER13-109-000, ER13-110-000, ER13-111-000 | Peetz Logan Interconnect, LLC, Sagebrush, a California partnership, Sky River LLC.
E-31 | RC13-4-001 | South Louisiana Electric Cooperative Association.
E-32 | EC13-128-000 | Silver Merger Sub, Inc., NV Energy, Inc., Nevada Power Company, Sierra Pacific Power Company, MidAmerican Energy Holding Company.
GAS
G-1 | RP13-1041-000 | Iroquois Gas Transmission System, L.P.
G-2 | RP12-945-001, AC13-112-000 | High Point Gas Transmission, LLC.
G-3 | RP13-185-000 | Viking Gas Transmission Company.
HYDRO
H-1 | P-13579-002, P-14491-000 | FFP Qualified Hydro 14, LLC, Western Minnesota Municipal Power Agency.
H-2 | P-2146-139 | Alabama Power Company.
CERTIFICATES
C-1 | CP13-477-000 | Columbia Gas Transmission, LLC.
C-2 | CP13-91-000, CP13-92-000, CP13-93-000 | Gulf South Pipeline Company, LP.
C-3 | CP12-497-001 | Transcontinental Gas Pipe Line Company, LLC.

Issued December 12, 2013.
Kimberly D. Bose,
Secretary.

A free Webcast of this event is available through www.ferc.gov. Anyone with Internet access who desires to view this event can do so by navigating to www.ferc.gov's Calendar of Events and locating this event in the Calendar.

The event will contain a link to its webcast. The Capitol Connection provides technical support for the free webcasts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2013-30158 Filed 12-16-13; 11:15 am]

BILLING CODE 6717-01-P